DEPARTMENT OF DEFENSE

Office of the Secretary

Science and Technology Reinvention Laboratory Personnel Management Demonstration Program

AGENCY: Office of the Deputy Assistant Secretary of Defense (Civilian Personnel Policy) (DASD (CPP)), Department of Defense (DoD).

ACTION: Notice of amendment.

SUMMARY: On December 2, 2008, DoD published Federal Register notice, 73 FR 73248-73252, to record amendments to eight legacy Science and Technology Reinvention Laboratory (STRL) Personnel Management Demonstration (demo) Project Plans resulting from section 1107(c) of the National Defense Authorization Act (NDAA) for Fiscal Year (FY) 2008 (Pub. L. 110-181; 122 Stat 357; 10 U.S.C. 2358 note). Subsequent to this notice, section 1105(a) of the NDAA for FY 2010 (Pub. L. 111-84; 123 Stat. 2486; 10 United States Code (U.S.C.) 2358 note) was passed to designate seven additional DoD laboratories as STRLs and coupled them with the legacy STRLs enumerated in 9902(c)(2) of title 5, U.S.C., but it did not provide language to extend the coverage of section 1107(c) of NDAA for FY 2008 to all the STRLs listed in section 1105(a) of the NDAA for FY 2010. The Ike Skelton NDAA for FY 2011, subsection 1101(b)(2) contains language to clarify that section 1107(c) of the NDAA for FY 2008 applies to those DoD laboratories designated as STRLs by section 1105(a) of the NDAA for FY 2010. In addition, experience with the processes and procedures described in the Federal Register notice (73 FR 73248-73252) for adopting STRL flexibilities, modifying demo project plans, or executing Federal Register Notices has identified some areas for streamlining and updating. This notice adds reference to the new and clarifying legislation as well as a provision that processes and procedures may be changed with associated modifications issued in DoD internal issuances as appropriate.

DATES: This amendment may be implemented beginning on the date of publication of this notice in the Federal Register.

FOR FURTHER INFORMATION CONTACT: Ms. Betty A. Duffield, DCPAS, Suite B-200, 1400 Key Boulevard, Arlington, VA 22209-5144.

SUPPLEMENTARY INFORMATION:

Modifications

In the notice published on December 2, 2008, 73 FR 73248-73252:

1. On page 73249, in the first column, two lines from the top, add the following paragraph to the SUMMARY section:

“Section 1105(a) of NDAA for FY 2010 (Pub. L. 111-84; 123 Stat 2486; October 28, 2009) listed the existing STRLs enumerated under 5 U.S.C. 9902(c)(2) and designated seven additional DoD laboratories as STRLs for the purpose of designing, implementing, and sustaining demo projects. However, it did not provide specific language that extended the coverage of section 1107(c) of NDAA for FY 2008 to all the STRLs listed in section 1105(a) of the NDAA for FY 2010. The Ike Skelton NDAA for FY 2011, subsection 1101(b)(2) contains language to clarify that section 1107(c) of the NDAA for FY 2008 applies to those DoD laboratories designated as STRLs by section 1105(a) of the NDAA for FY 2010.”

2. On page 73251, insert the following as the first paragraph under III. Personnel System Changes, Section A.

“Section 1105(a) of the NDAA for FY 2010 was passed to designate seven additional DoD laboratories as STRLs and coupled them with the legacy STRLs enumerated in 9902(c)(2) of title 5, U.S.C., but it did not provide language to extend the coverage of section 1107(c) of the NDAA for FY 2008 to all the STRLs listed in section 1105(a) of the NDAA for FY 2010. The Ike Skelton NDAA for FY 2011, subsection 1101(b)(2) contains language to clarify that section 1107(c) of the NDAA for FY 2008 applies to those DoD laboratories designated as STRLs by section 1105(a) of the NDAA for FY 2010.”

3. On page 73251, under III. Personnel System Changes, in the first column, in the paragraph following the eighth bullet, delete “STRLs enumerated in subsection 9902(c)(2) of title 5, U.S.C.,” and replace with “DoD laboratories designated as STRLs in section 1105(a) of the National Defense Authorization Act for Fiscal Year 2010 (Pub. L. 111-84; 123 Stat 2486; 10 U.S.C. 2358 note), as amended”.

4. For other references to “subsection 9902(c)(2)” or just “9902(c)(2)” found throughout the Federal Register notice (73 FR 73248-73252), delete each mention of “subsection 9902(c)(2)” or “9902(c)(2)” and replace with “section 1105(a) of the NDAA for FY 2010, as amended.”

5. On page 73252, in the first column, immediately preceding the signature block, add the following new section:

“D. Modifications to the processes and procedures described herein may be made from time to time. Changes could occur as experience is gained, results are analyzed, and conclusions are reached or new demo authorities are approved which impact processes and procedures. Such revisions may be formalized in DoD internal issuances as appropriate.”

Dated: October 26, 2011.
Aaron Siegel,
Alternate OSD Federal Register Liaison Officer, Department of Defense.

[FR Doc. 2011-28085 Filed 10-28-11; 8:45 am]

BILLING CODE 5001-06-P